DEPARTMENT OF HOUSING AND URBAN DEVELOPMENT

[Docket No. FR-4975-N-37]

Notice of Proposed Information Collection: Comment Request; Compromise/Settlement Offer, Personal Financial Statement, Pre-Authorized Debit (PAD), Repayment Agreement, and Compromise Offer/Partial Approval Worksheet

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: January 9, 2006.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8001, Washington, DC 20410 or Wayne_Eddins@hud.gov.

FOR FURTHER INFORMATION CONTACT: Lester J. West, Director, Albany Financial Operations Center, Department of Housing and Urban Development, telephone (518) 464-4200 extension 4206 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Compromise/Settlement Offer, Personal Financial Statement, Pre-Authorized Debit (PAD), Repayment Agreement, and Compromise Offer/Partial Approval Worksheet.

OMB Control Number, if applicable: 2502-0483.

Description of the need for the information and proposed use: HUD uses the information to analyze debtors' financial positions and then approve settlements, repayment agreements, and pre-authorized electronic payments to HUD.

Agency form numbers, if applicable: HUD-56141, HUD-56142, HUD-56146, HUD-55509, and HUD-92090.

Estimation of the total number of hours needed to prepare the information collection including number of respondents, frequency of response, and hours of response: The estimated total number of hours needed to prepare the information collection is 847, the number of respondents is 800 generating approximately 1,640 annual responses, the frequency of response is on occasion, and the estimated time needed to prepare the response varies from 5 to 30 minutes.

Status of the proposed information collection: This is a revision of a currently approved collection. This revision seeks to consolidate the currently approved information collection requirements of 2502-0424 (Pre-Authorization Debit (PAD) Request) and 2502-0098 (Borrower's Personal Financial Statement for Compromise/Settlement), because all the information collected is related to borrowers who owe money to HUD and HUD's attempts to collect that money.

Authority: The Paperwork Reduction Act of 1995, 44 U.S.C., Chapter 35, as amended.

Dated: October 28, 2005.
Frank L. Davis,
General Deputy Assistant Secretary for Housing-Deputy Federal Housing Commissioner.

[FR Doc. 05-22155 Filed 11-7-05; 8:45 am]

BILLING CODE 4210-27-P